DEPARTMENT OF COMMERCE

Bureau of Export Administration

15 CFR Parts 734, 740, 742, 743, and 774

[Docket No. 020228045-2053-02]

RIN 0694-AC56

Corrections to Rule Entitled: Revisions to License Exception CTP: Implementation of Presidential Announcement of January 2, 2002

AGENCY: Bureau of Export Administration, Commerce.

ACTION: Final rule.

SUMMARY: On March 8, 2002 the Bureau of Export Administration (BXA) published a final rule revising License Exception CTP. This rule corrects errors in the rulemaking requirements section (to indicate that this rule was determined by the Office of Management and Budget to be significant for purposes of Executive Order 12866), authorities section, list of subjects, part listings, and an instruction to add a missing paragraph reference.

DATES: This rule is effective March 18, 2002.

FOR FURTHER INFORMATION CONTACT: Sharron Cook in the Office of Exporter Services, Bureau of Export Administration, at (202) 482-2440.

SUPPLEMENTARY INFORMATION: In rule FR Doc. 02-5562 published on March 8, 2002, (67 FR 10608), BXA makes the following corrections.

—On page 10608, in the third column, add 743 to the listing of 15 CFR parts.

—On page 10610, in the first column, under Rulemaking Requirements #1, revise the phrase “not significant” to read “significant.”

—On page 10610, in the second column, in the List of Subjects, revise “15 CFR Part 740” to read “15 CFR Parts 740 and 743.”

—On page 10610, in the second column, under the List of Subjects, revise the phrase “Accordingly, parts 734, 740, 742, and 774” to read “Accordingly, parts 734, 740, 742, 743, and 774.”

—On page 10610, in the second column, under the authority citation listings, following paragraph 4 insert a new paragraph 4a reading as follows:

4a. The authority citation for part 743 continues to read as follows:

Authority: 50 U.S.C. app. 2401 et seq; Pub. L. 106-508; 50 U.S.C. 1701 et seq; E.O. 13206, 66 FR 18397, April 9, 2001.

—On page 10610, in the third column, under part 742, revise “§ 740.12” to read “§ 742.12”.

—On page 10610, in the third column, under part 742, in instruction 9, revise the phrase “in paragraph (b)(3)(iv)(A)” to read “in paragraphs (b)(3)(i)(B) and (b)(3)(iv)(A).”

Dated: March 12, 2002.
Eileen M. Albanese,
Director, Office of Exporter Services, Export Administration.

[FR Doc. 02-6295 Filed 3-15-02; 8:45 am]

BILLING CODE 3510-33-P